ENVIRONMENTAL PROTECTION AGENCY

[FRL-6887-2]

Slotted Guidepoles at NSPS Subpart Ka/Kb Storage Vessels

AGENCY: Environmental Protection Agency (EPA).

ACTION: Supplemental notice concerning storage tank emission reduction partnership program.

SUMMARY: This notice supplements the Storage Tank Emission Reduction Partnership Program Federal Register notice that was published on April 13, 2000, 65 FR 19891, see also 65 FR 2391 (January 14, 2000), commends companies for their participation in this program and includes a list of these companies and their facilities. Under this program, EPA offered to enter into agreements with those companies that installed or will install controls to reduce emissions from slotted guidepoles at NSPS Subpart Ka and Kb tanks. EPA will waive penalties for participating companies who implement their agreements in a timely manner. To participate, companies were required to notify EPA of their intent to participate by June 12, 2000.

FOR FURTHER INFORMATION CONTACT: Mr. James K. Jackson, Air Enforcement Division (2242A), U.S. Environmental Protection Agency, 401 M Street SW, Washington, DC 20460, telephone (202) 564-2002.

SUPPLEMENTARY INFORMATION: As described in previous Federal Register notices, slotted guidepoles have holes, slots and gaps that provide a pathway for evaporative product losses and volatile organic compound (VOC) emissions which can exceed 25,000 pounds per year. EPA reaffirmed its position that uncontrolled slotted guidepoles do not comply with the “no visible gap” requirements of NSPS Subparts Ka and Kb, see 65 FR 2336 (January 14, 2000). The Storage Tank Emission Reduction Partnership Program, however, provided companies with an opportunity to resolve these issues by entering into agreements with EPA to control slotted guidepole emissions at their NSPS Subpart Ka/Kb tanks.

To participate in the Storage Tank Emission Reduction Partnership Program, companies were required to submit a notice of intent by June 12, 2000. Over 100 companies submitted notices covering over 1,000 facilities. EPA believes this level of participation reflects the obvious advantage to participating companies and to the environment of pursuing joint public-private partnerships such as this. EPA commends each of these companies for its willingness to step forward and participate in this process. Accordingly, EPA is publicizing their participation and identifying them and their facilities in this notice. APPENDIX I.

In announcing the final program, EPA encouraged interested companies to voluntarily install slotted guidepole controls on additional, non-NSPS Ka/Kb tanks. EPA believes that the cost of such controls is modest, the transaction cost is minimal and the opportunity for additional emission reductions is substantial. Several companies inquired whether these additional tanks and controls could be included in their participation agreement (due on or before December 11, 2000). The partnership agreement precludes the use of credits for emission reductions from tanks identified on its Annex A which, by its terms, applies only to NSPS Ka/Kb tanks. EPA recognizes that controls on these additional tanks may not be required and that emission credits and offsets would typically be available if such controls are installed. Accordingly and to avoid confusion while also providing an added incentive for installing controls on additional tanks, EPA encourages companies to identify non-NSPS Ka/Kb tanks and the controls that were or will be installed in a separate Annex B to their partnership agreement.

Annex B should be included with the partnership agreement when submitted to the Agency. It should list any non NSPS Ka/Kb tanks (e.g., tanks constructed before May 18, 1978) where controls are or will be installed on their slotted guidepoles. Experience to date suggests that credits and offsets will be generally available under these circumstances, but identifying these tanks and installing controls does not guarantee that emission credits and offsets are available. This is an issue that must be determined by applicable state and local authorities, consistent with the requirements of federally approved state implementation plans.

Dated: October 4, 2000.
Eric V. Schaeffer,
Director, Office of Regulatory Enforcement, Office of Enforcement and Compliance Assurance.

Appendix I—Participants in the Storage Tank Emissions Reduction Partnership Program

1. AERA Energy LLC, Bakersfield, CA

1. Belridge Field, McKittrick, CA; EPA ID No. CAD 000 628 057; Tanks T-486, T-485, T-484

2. Beta Field, Long Beach, CA; EPA ID No. CAD 981 453 210; Tank T-1040

3. Midway Sunset Field, Fellows, CA; EPA ID No. CAD 080 031 651, Tanks T-30ESD, T-100

2. Air Products and Chemical, Inc., Allentown, PA

3. Amerada Hess Corporation, Port Reading Refinery, Woodbridge, NJ

1. Amerada Hess Corp.-Port Reading Refinery, EPA ID No. 15652/15034

4. American Samoa Government, Office of Petroleum Management, Pago Pago, American Samoa

1. Utulei Bulk Petroleum Storage Tank Farm, Utulei Village; EPA ID No. ASD 981 993 306

5. Apex Oil Company, Inc., Granite City, IL

1. Apex Oil Co, Greensboro, NC; Air Permit Facility No. 4100121

2. Apex Oil Co., Wilmington, NC; Air Permit Facility No. 12900147

6. ARCO Products Company, West Coast Region, Richmond, CA

1. Carson Crude Terminal, Carson, CA; EPA ID No. CAD 000 628 412

2. Colton Terminal, Bloomington, CA; EPA ID No. CAD 000 632 406

3. Hathaway Terminal, Long Beach, CA; EPA ID No. CAT 000 611 046

4. Phoenix Terminal, Phoenix, AZ; EPA ID No. AZD 074 480 245

5. Richmond Terminal, Richmond, CA; EPA ID No. CAD 000 632 521

6. Sacramento Terminal, West Sacrament, CA; EPA ID No. CAD 062 949 938

7. San Diego Terminal, San Diego, CA; EPA ID No. CAD 000 633 271

8. T2 Terminal, Long Beach, CA; EPA ID No. CAD 075 332 882

9. Vinvale Terminal, South Gate, CA; EPA ID No. CAD 081 782 583

7. ARCO Cherry Point Refinery, Blaine, WA 98231

1. BP Amoco—Cherry Point Refinery; EPA ID No. WAD 069 548 154

8. Ashland Inc., Columbus, OH

1. Ashland Specialty Chemical Co, Petrochemical Division, Methanol Plant, Plaquemine, LA; EPA ID No. LAD 081 419 418

9. BP Amoco, Carson, CA

1. BP-Amoco—Carson Refinery, Carson, CA; EPA ID No. CAD 077 227 049

10. BP Amoco Chemicals, Texas City, TX

1. Texas City Chemicals Plant; EPA ID No. TXD 005 942 438

11. BP Amoco, Mandan Refinery, Mandan, ND

1. BP-Amoco—Mandan Refinery; EPA ID No. NDD 006 175 467

12. BP Amoco, Mid-Continent Region Marketing Terminals, Wood River, IL

1. Bettendorf, IA; EPA ID No. IAD 000 688 523

2. Boise, ID; EPA ID No. IDD 000 641 654

3. Burley, ID; EPA ID No. IDD 000 641 662

4. Cedar Rapids, IA; EPA ID No. IAD 000 688 515

5. Chicago (Harlem Ave.), IL; EPA ID No. ILD 000 805 697

6. Chicago (O'Hare), IL; EPA ID No. ILD 180 012 049

7. Council Bluffs, IA; EPA ID No. IAD 000 688 507

8. Des Moines, LA; EPA ID No. IAD 000 821 751

9. Dubuque, IA; EPA ID No. IAD 000 688 556

10. Green Bay, WI; EPA ID No. WID 000 808 246

11. Jamestown, ND; NDD 089 776 355

12. Milwaukee, WI; EPA ID No. WID 980 614 937

13. Moorhead, MN; EPA ID No. MND 000 686 683

14. Ottumwa, IA; EPA ID No. IAD 000 688 549

15. Rochelle, IL; EPA ID No. ILD 000 717 868

16. Roseville, MN; EPA ID No. MND 060 491 040

17. Sauk Centre, MN; EPA ID No. MND 096 493 515

18. Spring Valley, MN; EPA ID No. MND 000 686 691

19. Sugar Creek, MO; EPA ID No. MOD 007 161 425

20. Superior, WI; EPA ID No. WID 000 713 586

21. Wood River, IL; EPA ID No. ILD 982 611 428

13. BP Exploration & Oil Inc.—Midwest Region Distribution Terminals, Cleveland, OH

1. Canton, OH; EPA ID No. OHD 017 586 3 89

2. Cheboygan, MI; MID 000 725 242

3. Cincinnati, OH; OHD 074 723 099

4. Cleveland, OH OHD 000 812 198

5. Columbus, OH; OHD 000 812 206

6. Coraopolis, PA; PAD 000 779 959

7. Dayton, OH; OHD 095 194 684

8. Dearborn, MI; MID 091 611 053

9. Granger, IN; IND 000 810 853

10. Greensburg, PA; PAD 074 979 857

11. Indianapolis, IN; IND 072 075 294

12. Jackson, MI; MID 099 658 288

13. Knoxville, TN; TND 000 504 355

14. Lafayette, IN; IND 000 717 843

15. Lorain, OH; OHD 000 817 767

16. Louisville, KY; KYD 062 986 336

17. Nashville, TN; TND 000 604 363

18. Niles, OH; OHD 000 720 748

19. River Rouge, MI; MID 000 809 517

20. Sciotoville, OH; OHD 000 720 789

21. Tiffin, OH; OHD 000 723 031

22. Toledo, OH; OHD 000 817 171

14. BP Amoco: Amoco Pipeline Company; and PB Oil Pipeline Co., Warrenville IL

15. BP Amoco, Salt Lake City Business Unit, Salt Lake City, UT

1. Salt Lake City Refinery; UTD 000 826 362

16. BP Amoco Oil, U.S. Terminal & Distribution, Marietta, GA

1. Carteret, NJ; NJD 000 631 895

2. Brooklyn, NY; NYD 000 632 018

3. Curtin Bay, MD; MDD 000 607 788

4. Fairfax, VA; VAD 040 556 565

5. Richmond, VA; VAD 000 607 879

6. Roanoke, VA; VAD 000 621 045

7. Selma, NC; NCD 075 559 526

8. Sweetwater, SC; SCD 000 645 747

9. Doraville I, GA; GAD 079 374 260

10. Doraville II, GA; GAD 093 381 390

11. Mobile, AL; ALD 099 842 098

12. Jacksonville, FL; FLD 061 916 532

13. Tampa, FL; FLD 084 184 209

14. Port Everglades, FL; FLD 000 827 386

17. BP Amoco Oil, Texas City Refinery Business Unit, Texas City, TX

1. Texas City Business Unit; TXD 008 080 533

18. BP Amoco—Toledo Refinery, Toledo, OH

1. Toledo Refinery; OHD 005 057 542

19. BP Amoco Oil, Whiting, IN

1. Whiting Business Unit; EPA ID No. 089-0003

20. BP Oil Company, Alliance Refinery, Belle Chasse, LA

1. Alliance Refinery; LAD 056 024 391

21. Buckeye Pipe Line Company, Allentown, Pennsylvania

1. Buckeye Pipe Line Co., Auburn; NYD 980 537 054

2. Laurel Pipe Line Co., Booth; PAD 000 647 354

3. Buckeye Pipe Line Co., Coraopolis; PAD 980 198 782

4. Buckeye Pipe Line Co., East Chicago; IND 980 792 683

5. Buckeye Pipe Line Co., Huntington; IND 980 269 344

6. Buckeye Refining Co., Indianola Refinery; PAD 094 215 886

7. Buckeye Pipe Line Co., Inglenook; PA0 000 144 113

8. Buckeye Pipe Line Co., J.F.K. International Airport; NYR 000 040 297

9. Buckeye Pipe Line Co., Lima; OHD 068 100 650

10. Buckeye Pipe Line Co., Linden; NJD 982 189 397

11. Buckeye Pipe Line Co., Long Island City; NYD 982 189 334

12. Buckeye Pipe Line Co., Macungie; PAD 060 508 397

13. Buckeye Pipe Line Co., Mantua; OHD 052 935 970

14. Buckeye Pipe Line Co., Marcy, Marcy NY; no EPA ID No.

15. Buckeye Pipe Line Co., Midland Breakout Facility; PAR 000 042 242

16. Buckeye Pipe Line Co., Rochester; NYD 000 692 095

17. Buckeye Pipe Line Co., Springfield, Springfield, MA; no EPA ID No.

18. Buckeye Tank Terminals Co., Taylor Terminal; MIT 270 011 547

19. Buckeye Pipe Line Co., Toledo; OHD 980 792 626

20. Buckeye Pipe Line Co., Vestal, Vestal, NY; no EPA ID no.

22. Calcasieu Refining Co., Lake Charles, LA

1. Calcasieu Refining Co.; LAD 099 393 225

23. Calnev Pipe Line Company, San Bernardino, CA

1. Colton; CAD 007 907 322

2. George; CAT 080 013 881

3. Barstow; CAT 000 603 423

4. Las Vegas; NVD 990 746 961

24. CENCO Refining Company, Santa Fe Springs, CA

1. Cenco Refining Company; CAD 008 383 291

25. Central Florida Pipeline Corporation, subsidiary of GATX Terminals Corporation, Tampa, FL

1. Central Florida Pipeline Co.; FLD 078 319 308

30. Chase Pipe Line Company, Wichita, Kansas

1. Aurora Terminal; COD 076 459 601

2. El Dorado Terminal; KST 210 010 203

31. Chevron Pipe Line Company, Houston, TX

1. Alameda Station; TNRCC Account #FG0206F

2. North Snyder Station; TNRCC Account #SG0004S

3. Wink West Station; TNRCC Account #WM0040N

4. Wortham Station; TNRCC Account #F10023Q

5. Fouchon Terminal; LDEQ Permit #1560-00010-V2

6. Empire Terminal; LDEQ Permit #2240-00048-04

7. Boise Station; Idaho Permit #P-9506-075

8. Sigma Station; California Permit #S-1394-53

9. Kern Station; California Permit #S-1402-1-4

10. Midland Station; Texas Account #ML0244C

11. Colorado City Station; Texas Account #SG0033L

12. Wortham Station; Texas Account #F10023Q

32. Chevron Products Company, San Ramon, CA

33. CITGO, Tulsa, OK

1. West Shore Pipeline Co, Granville Station; WID 988 579 975

2. West Shore Pipeline Co, Des Plaines Station; ILR 000 0066 184 [sic?]

3. West Shore Pipeline Co, North Green Bay Station; WID 988 579 967

4. West Shore Pipeline Co, Hammond Station; IND 984 877 225

5. West Shore Pipeline Co, Des Plaines Terminal; ILD 025 043 506

6. West Shore Pipeline Co, Harlem Terminal; ILD 984 910 638

7. West Shore Pipeline Co, Madison Terminal; WID 988 603 825

8. West Shore Pipeline Co, Rockford Station; ILD 984 899 880

9. CITGO Pipeline Co, Arlington Station; TXO 000 936 633

10. CITGO Products Pipeline Co—Fauna Station; TXR 000 008 938

11. CITGO Products Pipeline Co, Luling Station; TXD 000 999 490

12. CITGO Pipeline Company, Clifton Ridge/Pecan Grove; LAD 000 803 130

13. CITGO Pipeline Company, Sour Lake Tank Farm, TXD 072 212 160

14. CITGO Albany Terminal; NYD 183 487 867

15. CITGO Baltimore Terminal; MDD 048 567 523

16. CITGO Bettendorf Terminal; IAD 000 670 455

17. CITGO Birmingham Terminal; ALD 000 609 693

18. CITGO Braintree Terminal; MAD 000 844 100

19. CITGO Brownsville Terminal; TXD 987 993 300

20. CITGO Bryan Terminal; TXT 490 011 251

21. CITGO Charlotte Terminal; MCO 006 097 19

22. CITGO Chattanooga Terminal; TND 000 609 743

23. CITGO Chesapeake Terminal; VAO 006 195 28

24. CITGO Columbus Terminal; OHT 400 010 724

25. CITGO Corpus Christi Terminal; TXD 051 161 990

26. CITGO Dayton Terminal; OHD 987 012 176

27. CITGO Des Plaines Terminal; ILD 06 609 84

28. CITGO Doraville Terminal; GAD 000 616 714

29. CITGO E. Chicago Terminal; IND 095 267 381

30. CITGO Fairfax Terminal; VAD 077 796 126

31. CITGO Ferrysburg Terminal; MID 000 718 197

32. CITGO Fort Worth Terminal; TXD 091 269 613

33. CITGO Green Bay Terminal; WID 000 713 222

34. CITGO Houston Terminal; TXD 087 611 927

35. CITGO Huntington Terminal; INT 190 014 506

36. CITGO Jackson Terminal; MID 000 718 205

37. CITGO Knoxville Terminal; TND 000 609 750

38. CITGO Lake Charles Terminal; LAD 008 080 350

39. CITGO Lemont Terminal; ILD 041 550 567

40. CITGO Linden Terminal; NJD 000 691 170

41. CITGO Louisville Terminal; KYD 043 774 975

42. CITGO Madison Terminal; WID 094 368 339

43. CITGO Meridian Terminal; MSD 000 609 701

44. CITGO Milwaukee Terminal; WID 988 592 382

45. CITGO Mt. Prospect Terminal; ILD 064 389 282

46. CITGO Nashville Terminal; TND 000 609 768

47. CITGO Niceville Terminal; FLD 032 591 521

48. CITGO Nile Terminal; MID 000 718 171

49. CITGO North Port Avenue Terminal; TXD 000 742 296

50. CITGO Panama City Terminal; FLD 984 176 073

51. CITGO Petty's Island Terminal; NJD 043 274 471

52. CITGO Port Everglades Terminal; FLD 077 266 385

53. CITGO Richmond Terminal; VAD 980 714 406

54. CITGO Rocky Hill Terminal; CTD 983 870 460

55. CITGO San Antonio Terminal; TXD 005 125 066

56. CITGO Selma Terminal; NCO 006 919 56

57. CITGO Spartanburg Terminal; SCD 000 792 671

58. CITGO Tallmadge Terminal; OHD 060 422 946

59. CITGO Tampa Terminal; FLD 069 660 561

60. CITGO Toledo Terminal; OHD 005 055 777

61. CITGO Vestal Terminal; NYD 088 658 968

62. CITGO Vicksburg Terminal; MSD 991 277 658

63. CITGO Victoria Terminal; TXD 003 899 440

64. CITGO Waco Terminal; TXD 089 318 190

65. CITGO Petroleum Corporation; LAD 008 080 350

66. CITGO Petroleum Corporation; ILD 041 550 567

67. CITGO Corpus Christi Refinery-East Plant; TXD 051 161 990

68. CITGO Corpus Christi Refinery-West Plant; TXD 981 153 711

69. CITGO Deep Sea Terminal; TXD 000 750 877

34. Coastal Eagle Point Oil Company, Westville, NJ

1. Coastal Eagle Point Oil Company, Westville, NJ; No EPA ID No. provided

35. Coffeyville Refining, Cooperative Refining, LLC, Coffeyville, Kansas

1. Coffeyville, KS Refinery; KSD 007 138 605

2. Phillipsburg, KS Refinery; Source ID 1470001

3. Associated Pipeline Assets Owned by Farmland Industries, Inc., and Operated by Cooperative Refining LLC

36. Cooperative Refining, LLC, McPherson, Kansas

1. Cooperative Refining, LLC—McPherson; KSD 007 145 956

37. Cooperative Refining, LLC—Transportation Division, McPherson, Kansas

1. Kane Station, Washington County, OK

2. Spurlock Station, Chautauqua County, KS

3. Shidler Station, Osage County, OK

4. Waldschmidt Station, Cowley County, KS

5. Clark Station, Butler County, KS

6. Holtzinger Station, Trego County, KS

38. Countrymark Cooperative, Inc., Mt. Vernon, IN

1. Countrymark Cooperative; IND 084 490 8663

43. Equilon Enterprises LLC, Bakersfield, CA

1. Bakersfield Refining Company; CAD 099 457 087

44. Equilon Enterprises LLC, Transportation, Houston, TX

1. Argo Terminal; ILD 000 608 992

2. Bakersfield Terminal; CAL 000 032 796

3. Brecksville Terminal; OHD 076 905 785

4. Carson Terminal; CAD 066 676 123

5. Cincinnati Terminal; OHD 000 609 131

6. Clermont Terminal; IND 042 361 139

7. Cleveland Terminal; OHD 000 609 149

8. Colton Terminal; CAD 982 327 744

9. Columbus East Terminal; OHD 057 806 614

10. Columbus West Terminal; OHD 079 436 077

11. Dayton Terminal; OHD 000 609 156

12. Des Plaines Terminal ILD 068 588 664

13. Detroit Metro Terminal; MID 000 609 115

14. Detroit Terminal; MID 068 819 648

15. East Chicago Terminal; IND 094 760 444

16. Effingham Terminal; ILD 000 609 016

17. Ferrysburg Terminal;

18. Granville Terminal; WID 082 806 399

19. Greenbay Terminal; WID 023 244 429

20. Hammond Terminal; IND 053 221 537

21. Harristown Terminal; ILD 000 609 032

22. Hartford Terminal; ILR 000 076 042

23. Hilo Terminal; HID 000 631 531

24. Honolulu Terminal; HID 000 631 655

25. Jackson Terminal; MID 000 609 107

26. Kahului Terminal; HID 000 631 713

27. Lima North Terminal; OHR 000 032 383

28. Lima South Terminal; OHD 000 817 627

29. Marshall Terminal; MIR 000 045 385

30. Martinez Terminal; CAC 000 54 896

31. Mission Valley Terminal; CAD 000 603 795

32. Mitchell Field; no EPA ID No.

33. Morman Island Terminal; CAT 000 617 480

34. Mt. Vernon Terminal; IND 980 271 829

35. Muncle Terminal; IND 000 609 073

36. Nawiiwili Terminal; HID 000 631 770

37. Niles Terminal; MID 00 609 123

38. Odessa Terminal; No EPA ID No.

39. Oklahoma City Terminal; OKD 000 728 790

40. Pekin Terminal ILD 000 609 040

41. Peoria Terminal; ILT 180 012 692

42. Phoenix Terminal; AZD 068 411 651

43. Portland Terminal ORD 000 641 639

44. Rialto Terminal; CAD 000 626 044

45. Rockford Terminal; ILD 000 670 901

46. Sacramento Terminal; CAD 000 631 267

47. St. Louis North Terminal; MOD 068 559 525

48. St. Louis South Terminal; MOD 042 659 714

49. San Diego Terminal; CAD 000 626 127

50. San Francisco Terminal; CAD 000 631 440

51. San Jose Terminal; CAD 000 631 382

52. Seattle Terminal; WAD 001 684 588

53. Signal Hill Terminal; CAD 028 430 999

54. Sparks Terminal; NVD 000 631 549

55. Stockton Terminal; CAD 000 631 507

56. Taylor Terminal; MIR 000 045 393

57. Toledo Terminal; OHD 000 608 901

58. Tucson Terminal; AZT 000 617 548

59. Tumwater Terminal; WAD 000 641 787

60. Van Nuys Terminal; CAT 000 603 852

61. Ventura Terminal; CAT 000 603 845

62. Wilmington Terminal; CAR 000 015 180

63. Zionsville Terminal; IND 000 609 065

64. Adell Station, Decatur County, KS; No EPA ID No.

65. Aldine, Houston, TX; No EPA ID No.

66. Alzada Station (Butte), Alzada, MT; No EPA ID No.

67. Aneth Station (TMN), Montezuma, UT; No EPA ID No.

68. Avon, Concord, CA; No EPA ID No.

69. Baker Station (Butte), Baker, MT; No EPA ID No.

70. Bakersfield; CAD 981 435 506

71. Barnsely Sta (TNM), Crane, TX; No EPA ID No.

72. Baton Rouge PDX Station; LAD 000 728 881

73. Bayview Sta (TNM); No EPA ID No.

74. Beer Nose, Blackwells Corner, CA; No EPA ID No.

75. Bemis Station (KAW), Ellis County, KS; No EPA ID No.

76. Berland Station (KAW), Rooks County, KS; No EPA ID No.

77. Bistis Station (TNM), Farmington, NM; No EPA ID No.

78. Boyer Terminal; KSR 000 011 544

79. Brea; CAD 981 435 928

80. Burkett, Butler County, KS; No EPA ID No.

81. Burton, Burton, KS; No EPA ID No.

82. Carneras; CAC 001 275 448

83. Cibolo Station, TX; No EPA ID No.

84. Clay City, Clay City, IL; No EPA ID No.

85. Coalinga; CAD 000 631 176

86. Coalinga-Nose, Conlinga, CA; No EPA ID No.

87. Coates Station; No EPA ID No.

88. Cocodrie; LAD 985 221 464

89. Colex, Pasadena, TX; No EPA ID No.

90. Colorado City (Basin), Hermeligh, TX; No EPA ID No.

91. Cunningham, Cunningham, KS; No EPA ID No.

92. Cushing Terminal; OKD 980 812 721

93. Deer Park—Sinco, Deer Park, TX; No EPA ID No.

94. Delaware City, Delaware City, DE; No EPA ID No.

95. Dickinson, Butler County, KS; No EPA ID No.

96. Dopita Station (KAW), Rooks County, KS; No EPA ID No.

97. East Houston Station; TXP 490 294 484

98. El Cinco Station (TNM), McCarney, TX; No EPA ID No.

99. El Dorado Station; El Dorado, TX; No EPA ID No.

100. El Dorado Tank Farm, El Dorado, TX; No EPA ID No.

101. El Paso; TXD 043 150 317

102. El Vista (Clark), Port Arthur, TX; No EPA ID No.

103. Emido; CAD 000 631 291

104. Erath Station; LAD 985 212 471

105. Fellows, Fellows, CA; No EPA ID No.

106. Fillmore, Fillmore, CA; No EPA ID No.

107. Fishburn, Shepard, TX; No EPA ID No.

108. Flanagan, Denver City, TX; No EPA ID No.

109. Fleming Station, Harper County, KS: No EPA ID No.

110. Fredricksburg (TNM), Fredricksburg, TX; No EPA ID No.

111. Frost, Mertens, TX; No EPA ID No.

112. Fryberg Station (Ltl Mo Pl), Billings County, ND; No EPA ID No.

113. Ft. Laramie Station (Butte), Ft. Laramie, WY; No EPA ID No.

114. Garfield Station (Rancho); TXCESQ

115. Gaviota; CAD 983 670 340

116. Gibson Station; LAR 000 027 334

117. Glendive Station, Dawson County, MT; No EPA ID No.

118. Glenpool, Glenpool, OK; No EPA ID No.

119. Golden Meadow, Golden Meadow, LA; No EPA ID No.

120. Goldsmith Station (TNM), Goldsmith, TX; No EPA ID No.

121. Goodrich, Goodrich, TX; No EPA ID No.

122. Gustine; CAL 000 149 107

123. Hanston, Hodgeman Co, KS; No EPA ID No.

124. Haymark, Lake Charles, LA; No EPA ID No.

125. Hearne Products; TXCESQ

126. Hendrick, Kermit TX; No EPA ID No.

127. Hendrick (TNM), Kermit, TX; No EPA ID No.

128. Houma Station; LAD 000 983 758

129. Hudson, Hudson, KS; No EPD ID No.

130. Humble Station, Houston, TX; No EPA ID No.

131. JAL Station (Basin), Jal, NM; No EPA ID No.

132. Junction Station (TNM), Junction, TX; No EPA ID No.

133. Kalkaska, Kalkaska, MO; No EPA ID No.

134. Kelley, Mettler, CA; No EPA ID No.

135. Kettleman; CAL 000 005 401

136. Kilgore, TXD 000 825 687

137. Lake Arthur, Lake Arthur, TX; No EPA ID No.

138. Lewiston; MID 980 615 116

139. Liberty (CAPLINE), Liberty, MS; No EPA ID No.

140. Little Beaver (Butte), Fallon County, MT; No EPA ID No.

141. Lockport; ILD 000 111 000

142. Long Beach; CAL 000 015 696

143. Lyons, Lyons, KS; No EPA ID No.

144. Maistee, Manistee, MI; No EPA ID No.

145. Maricopa, Kern County, CA; No EPA ID No.

146. McCamey, McCamey, TX; No EPA ID NO.

147. McCamey TF (TNM), McCamey, TX; No EPA ID No.

148. Meridan, Meridan, MS; No EPA ID No.

149. Mesa (Rancho), McCareny, TX; No EPA ID No.

150. Mesa (TNM), Roswell, NM; No EPA ID No.

151. Mid; CAD 982 032 237

152. Midland TF (Basin); TXP 490 301 063

153. Midway, McKittrick, CA; No EPA ID No.

154. Mount Belview, Mt. Belview, TX; No EPA ID No.

155. N. El Cinco Station (TNM), McCarney, TX; No EPA ID No.

156. Nairn; LAR 000 029 254

157. New Hobbs, Hobbs, NM; No EPA ID No.

158. Newhall, Newhall, CA; No EPA ID No.

159. Norco; LAD 968 012 546

160. Olig, McKittrick, CA; No EPA ID No.

161. Osage Station (Butte), Osage, WY; No EPA ID No.

162. Paducah, Paducah, KY; No EPA ID No.

163. Panoche; CAL 000 149 108

164. Pasadena (Rancho), Pasadena, TX; No EPA ID No.

165. Patoka—West; IDL 000 452 134

166. Patoka (CAPLINE); ILD 059 997 122

167. Patterson, Patterson, LA; No EPA ID No.

168. Pennel Station (Butte), Fallon County, MT; No EPA ID No.

169. Penwell Station (TNM), Penwell, TX; No EPA ID No.

170. Peotone, Bourbonnais, IL; No EPA ID No.

171. Pilottown, Buras, LA; No EPA ID No.

172. Placitas Station (TNM), Placitas, NM; No EPA ID No.

173. Plantation, Baton Rouge, LA; No EPA ID No.

174. Poplar Station, Brockton, MT; No EPA ID No.

175. Port Arthur (UNOCAL CL), Port Arthur, TX; No EPA ID No.

176. Port Neches, Port Neches, TX; No EPA ID No.

177. Pratt Lease, Longview, TX; No EPA ID No.

178. Prentice Station, Denver City, TX; No EPA ID No.

179. Pwdr Rvr Sys-Hawk Pt, WY; No EPA ID No.

180. Pwdr Rvr Sys-Heldt Draw; No EPA ID No

181. Pwdr Rvr Sys-Reno, Johnson County, WY; No EPA ID NO.

182. Ray Station (KAW), Rooks County, KS; No EPA ID NO.

183. Richey Station, Dawson County MT; No EPA ID NO.

184. Rio Bravo; CAL 000 173 665

185. Roth Station (KAW); No EPA ID No.

186. S. El Cinco Station (TNM); No EPA ID No.

187. Salem; ILD 984 789 099

188. San Ardo, San Ardo, CA; No EPA ID No.

189. San Ardo Orradri, San Ardo, CA; No EPA ID No.

190. Slaughter Station, Sundown, TX; No EPA ID No.

191. Somis; CAD 981 435 860

192. Sour Lake Station, Sour Lake Station, TX; No EPA ID No.

193. Southwest Pass, Venice, CA; No EPA ID No.

194. St. James (CAPLINE); LAD 982 557 449

195. Station 36, Bakersfield, Ca; No EPA ID No.

196. Sugarland, Saint James, LA; No EPA ID No.

197. Sullivan Station (KAW), Russell County, KS; No EPA ID No.

198. Sulphur, Carlysis, LA; No EPA ID No.

199. Susank Station (KAW), Susank, KS; No EPA ID No.

200. Terminal Station (KAW), Chase, KS; No EPA ID No.

201. Tex Ex, Port Arthur, TX; No EPA ID No.

202. Tracy; CAL 000 149 106

203. Tye, Abilene, TX; No EPA ID No.

204. Valley Center, Valley Center, KS; No EPA ID No.

205. Ventura Station, Ventura, CA; No EPA ID No.

206. Ventura; CAL 000 015 695

207. Walet, Loreauville, LA; No EPA ID No.

208. Wasco; CAL 000 005 093

209. Wasson Station; TXP 490 203 012

210. Wasson Station (Basin), Denver City, TX; No EPA ID No.

211. Weeks Island, Weeks Island, La; No EPA ID No.

212. West Columbia, West Columbia, TX; No EPA ID No.

213. West Odessa Station, Odessa, Tx; No EPA ID No.

214. Wheeler TF (TNM), Notrees Tx; No EPA ID No.

215. Wichita Falls; TXD 988 001 103

216. Willett, Ventura, CA; No EPA ID NO.

217. Wimberley Station (TNM), Wimberley, TX; No EPA ID No.

218. Wood River, Roxana, IL; No EPA ID No.

219. Worsham Station, Denver City, TX; No EPA ID No.

45. Equilon Enterprise LLC—Martinez Refining Company, Martinez, CA

1. Martinez Refining Company; CAD 009 164 021

46. Equilon Enterprises LLC—Los Angeles Refining Company, Wilmington, CA

1. Los Angeles Refining Company; CAD 041 520 644

47. Equilon Enterprises LLC—Puget Sound Refining Company, Anacortes, WA

1. Puget Sound Refining Company; WAD 009 276 197

48. ERGON, Inc., Jackson, MS

1. Ergon—St. James, Inc.; LAD 985 218 437

2. Ergon, Inc.; TND 093 800 084

3. Lion Oil Company; TND 073 528 684

49. ERGON West Virginia, Inc., Newell, WV

1. Ergon West Virginia, Inc.; WVR 000 010 058

50. Ergon Refining, Inc., Vicksburg, MS

1. Ergon Refining, Inc.; MSD 098 593 317

51. ExxonMobil Refining and Supply Company, Fairfax, VA

1. Baton Rouge Refinery; LAD 062 662 887

2. Baytown Refinery; TXD 000 782 698

3. Beaumont Refinery; TXD 990 797 714

4. Chalmette Refinery; LAD 008 179 707

5. Joliet Refinery; ILD 064 403 199

6. Torrance Refinery; CAD 008 354 052

7. Baytown Chemical Plant; TXD 980 809 909

8. Baton Rouge Chemical Plant; LAD 000 812 818

9. Baton Rouge Plastics Plant; LAD 000 778 381

10. Allentown; PAD 060 511 086

11. Buffalo; NYD 002 107 019

12. Cabras Island, Piti/Hagatna, Guam

13. Chesapeake; VAD 000 731 232

14. East Providence; RID 001 202 050

15. Linden NJD 000 767 954

16. Memphis; TND 000 825 497

17. New Syracuse Ted Park; NY0 000 622 449

18. Port Everglades; FLD 000 772 053

19. Roanoke; VAD 000 731 240

20. Rota Bulk Plant, Rota CNMI

21. St. Thomas; VIR 000 000 042

22. Saipan, Saipan, CNMI

23. Selma; NC0 001 994 516

24. South Houston; TXD 000 803 320

25. Tinian Bulk Plant, Tinian CNMI

26. Utica; NYD 000 708 008

27. Vernon; CAD 983 616 392

52. ExxonMobil Pipeline Company, Houston, Texas

1. ExxonMobil Pipeline Co., Webster DOW Tanks; TXR 000 015 616

2. ExxonMobil Pipeline Co., St. James, St. James, LA; No EPA ID No.

3. ExxonMobil Pipeline Co., Quintana; TXP 490 306 636

4. Mobil Pipe Line Co., Malvern; PAD 981 037 989

5. Mobil Pipe Line Co., Continental; CAT 000 623 306

6. Mobil Pipe Line Co., Emedio; CAT 000 623 256

7. Mobil Pipe Line Co., Lebec; CAT 000 623 314

8. Mobil Pipe Line Co., Midway; CAT 000 623 322

53. Flying J Inc., North Salt Lake, UT

1. North Salt Lake Flying J Refinery; UTD 045 267 127

54. Formosa Plastics Corporation, Texas, Point Comfort, TX

1. Formosa Plastics Corporation; TXT 490 011 293

55. Frontier El Dorado Refining Company, El Dorado, Kansas

1. Frontier El Dorado Refining Company; No EPA ID No.

56. Frontier Refining Inc., Cheyenne, Wyoming

1. Frontier Refining Inc.; No EPA ID No.

57. Fina Oil and Chemical Company, Texas

1. Big Springs Refinery; TXD 008 013 468

58. GATX Terminals Corporation—Philadelphia Terminal, Carteret, NJ

1. CATX Terminal Corporation—Philadelphia Terminal; PAD 987 279 726

59. GATX Tank Storage Terminals Corp., Carson, CA

1. Carson Facility; CAD 010 715 837

2. Los Angeles Harbor Terminal; CAD 000 630 053

60. GATX Terminals Corporation, Carteret, NJ

1. GATX Terminals Corporation; NJD 000 001 990

61. GATX Terminals Corporation Northwest Operations, Portland, OR

1. GATX Terminals Corporation; WAD 000 643 080

2. GATX Terminals Corporation; ORD 093 481 646

3. GATX Terminals Corporation; ORD 000 643 544

62. GATX Terminals Corporation, Galena Park, TX

1. GATX Terminals Corporation; TXR 000 001 206

63. GATX Terminals Corporation, Galena Park, TX

1. GATX Terminals Corporation; TXD 070 137 161

64. Formosa Plastics Corporation, Point Confort, TX

1. Formosa Plastics Corp; TXT 490 011 293

65. GATX Terminals Corporation, Philadelphia, PA

1. GATX Paulsboro Terminal; NJD 986 574 986

66. GATX Terminals Corporation, Galena Park, TX

1. GATX Terminals Corporation; TXD 026 481 523

67. GATX Terminals Corporation, Tampa, FL

1. GATX Terminals Corporation; FLD 073 216 863

68. GIANT Industries, Inc., Gallup, NM

1. Ciniza Refinery; NMD 000 333 211

2. Bloomfield Refinery; NMD 098 416 416

3. Albuquerque Products Terminal; NMD 045 271 053

4. Flagstaff Fuel Distribution Facility; AZ Air Quality Control Permit No. 1000838

69. Ciniza Pipe Line, GIANT Industries, Inc., Bloomfield, NM

1. Star Lake Station—N368 02 635′ W1078 36 852′

2. Bisti Station—N368 25.266′ W1088 7.815′

3. Apache Station—N368 21.132′ W1078 27.905′

4. Hospah Station—N358 43.958′ W1078 44.852′

70. Gulf Oil, Chelsea, MA

1. Gulf Oil; Altoona, PA; No EPA ID No.

2. Gulf Oil; Pittston Township, PA; No EPA ID No.

3. Gulf Oil; New Haven, CT; No EPA ID No.

4. Gulf Oil, Williamsport, PA; No EPA ID No.

5. Gulf Oil, Bangor, ME; No EPA ID No.

6. Gulf Oil Whitehall, PA; No EPA ID No.

7. Gulf Oil, Pittsburgh, PA; No EPA ID No.

8. Gulf Oil, Thorofare, NJ; No EPA ID No.

9. Gulf Oil, Chelsea, MA; No EPA ID No.

10. Gulf Oil, Linden, NJ; No EPA ID No.

11. Gulf Oil, Oceanside, NY; No EPA ID No.

12. Gulf Oil, Delmont, P; No EPA ID No.

13. Gulf Oil, Mechanicsburg, PA; No EPA ID No.

14. Gulf Oil, South Portland, ME; No EPA ID No.

71. Gulf Caribbean Petroleum Refining, San Juan, Puerto Rico

1. Carribean Petroleum Refining, L.P., Urb. Industrial Luchetti; PRD 981 487 2267

72. Gladieux Trading & Marketing Co., L.P., Fort Wayne, IN

1. Gladieux Trading & Marketing, Huntington, IN; No EPA ID No.

73. Hovensa L.L.C., Christiansted, Virgin Island

1. Hovensa, LLC; VID 980 536 080

74. Hartford Wood River Terminal, Inc., Hartford, IL

1. Hartford Wood River Terminal; #T-37-IL-3354

75. Intercontinental Terminals Company, Deer Park, TX

1. Achorage Terminal (ACT), Port Allen, LA; No EPA ID No.

2. Deer Park Terminal (ITC), Deer Park, TX; No EPA ID No.

76. Jayhawk Pipeline, L.L.C., McPherson, Kansas

1. Eubanks Station, Haskell County, KS; No EPA ID No.

2. Liberal Station, Seward County, KS; No EPA ID No.

3. McPherson Station, McPherson County, KS; No EPA ID No.

4. Valley Center Station, Sedgwick County, KS; No EPA ID No.

77. Kaneb Pipe Line Operating Partnership, L.P., Wichita, Kansas

1. Dupont Products Terminal; CO0 001995 497

2. El Dorado Station; KSD 091 433 417

3. Fountain Products Terminal; COD 048 745 657

4. McPherson Station; KSD 000 639 526

5. Mitchell Products Terminal; SDT 000 622 258

6. North Platte Products Terminal; 000 002 561 260

7. Rapid City Products Terminal; SDD 987 666 815

78. Koch Pipeline Group, L.P., Wichita, Kansas

1. Bethany, MO Terminal—Woodriver Crude PL; MOD 985 806 876

2. Caldwell Station, Burleson County, TX; No EPD ID No.

3. Cisco Y, TX, Near Breckenridge, TX; No EPD ID No.

4. Dilley Station, Dilley, TX; No EPA ID No.

5. Gerdes Station, Gerdes, TX; No EPA ID No.

6. Hartford, IL Terminal—Woodriver Crude Pl; ILD 984 849 976

7. Hearne Station, Hearne, Tx: No EPA ID No.

8. Heyser II Station, Bloomington, TX; No EPA ID No.

9. Ingleside Terminal; TXR 000 025 767

10. North Tilden Station; TXT 490 001 0428

11. Pettus No. 2 Station; TXD 000 725 515

12. Rosanky Station, Rosanky, TX

13. Rutherford Station, Tilden, TX

14. Schaft Station, Caldwell, TX

15. South Bend, TX, Near South Bend, TX

16. Three Rivers Station, Simmons City Road, TX

17. Tivoli Station; TXD 000 725 333

79. Koch Petroleum Group, LP, Wichita, KS

1. Austin Terminal; TXR 000 035 261

2. Corpus Christi East Refinery; TXD 066 447 376

3. Corpus Christi West Refinery; TXD 088 474 663

4. Cushing North, OK, Cushing, OK; No EPA ID No.

5. Fort Worth Terminal; TXD 988 040 382

6. Jacksonville, Fl; NO EPA ID No.

7. McFarland, WI Terminal—Wisconsin PL; WID 080 493 968

8. Milwaukee, WI Terminal—Wisconsin PL; WID 982 071 466

9. Pine Bend Refinery; MND 000 686 071

10. San Antonio Terminal; TXR 000 019 018

11. St. James, LA; LAD 981 900 541

12. Waco Terminal; TXR 000 035 311

13. Waupun, WI Terminal—Wisconsin PL; WID 982 605 552

14. Wilmington, NC; NCD 000 772 046

80. Kern Oil & Refining Co., Bakersfield, CA

1. Kern Oil & Refining Co. (Kern); No EPA ID No.

81. LBC PetroUnited Inc., Seabrook, TX

1. Bayport Terminal; TXD 096 602 941

2. Sunshine Terminal; LAD 096 040 712

82. Lion Oil Company—El Dorado Refinery, El Dorado, Arkansa

1. El Dorado Refinery; ARD 000 021 998

83. Lakehead Pipe Line Company, Inc., Duluth, MN

1. Superior Terminal; WID 981 092 133

2. Clearbrook Terminal; MND 980 276 067

3. Griffin Terminal; IND 074 393 422

84. Lyondell-CITGO Refining Company Ltd., Houston, TX

1. Lyondell-CITGO Refining Company Ltd.; TXD 082 688 979

85. Marathon Ashland Petroleum LLC—Catlettsburg Refining, LLC, Catlettsburg, Kentucky

1. Catlettsburg, Refining LLC; KYD 041 376 138

2. Tri-state Terminal; WVD 982 575 054

86. Marathon Ashland Petroleum LLC, Findlay, OH

1. Canton Refinery; 1576000301 (Ohio EPA)

2. Detroit Refinery; MID 005 506 357

3. Garyville Refinery; LAD 081 999 724

4. St. Paul Park Refinery; MND 006 162 820

5. Texas City Refinery; TXD 008 079 501

6. Robinson Refinery; ILD 005 476 882

7. Birmingham Al; ALD 000 737 296

8. Tampa, FL; FLD 981 014 525

9. Powder Springs, GA; GAD 000 735 910

10. Mt. Prospect, IL; ILD 059 430 298

11. Indianapolis, IN; IND 006 417 430

12. Muncie, IN; IND 000 714 964

13. Covington, KY; KYD 085 512 069

14. Lexington, KY; KYD 024 015 877

15. Louisville, KY; KYD 000 199 646

16. Louisville, KY; KYD 071 316 095

17. Garyville, LA; LAD 000 631 754

18. Flint, MI; MID 000 724 823

19. N. Muskegon, MI; MID 092 954 098

20. Lebanon, OH; OHD 000 723 635

21. Marietta, OH; OHD 063 767 024

22. Steubenville, OH; OHD 980 902 415

23. Youngstown, OH; OHD 064 105 943

24. Floreffe, PA; PAD 000 731 547

25. Floreffe, PA; PAD 000 797 555

26. Midland, PA; PAD 000 731 547

27. N. Charleston, SC; SCD 000 735 886

28. Bordeaux, TX; TND 095 668 687

29. Nashville, TN; TND 095 668 687 [sic?]

30. Green Bay, WI; WID 054 923 925

31. Milwaukee, WI; WID 000 821 702

32. Kenova, WV; WVS 982 575 054

33. Kenova, WV; WVD 982 575 054

34. Roanoke, VA; VAD 056 907 611

87. Marathon Ashland Pipe Line LLC, Findlay, OH

1. Section 23, T56N, R97W, Byron, WY 82412

2. 840 Heath Road, Heath, OH

3. 2510 Highway 20, South Worland, WY

4. 575 Buckeye Road, Lima, OH

5. West Highway 190, Iraan, TX

6. 431 N. Preston Road., Pasadena, TX

7. 9764 S. Preston Highway, Lebanon Junction, KY

8. S. 6th Street, Wood River, IL

9. 449 S. Fair Street, Powell, WY

10. 922 U.S. Highway 61

11. 1046 Pleasant Valley Road, Owensboro, KY 42302

12. Old Rt. 40 West, Martinsville, IL

13. 8930 Maplehurst Drive, East Sparta, OH

14. 13100 U.S. 23, Catlettsburg, KY

15. 1900 W. Avenue H, Griffith, IN

88. Motiva Enterprises LLC, Houston, TX

1. Atlanta South; GAD 069 176 261

2. Baltimore—East; MDD 044 148 856

3. Baltimore—West; MDD 000 013 474

4. Bridgeport; CTD 075 395 590

5. Brooklyn; NYD 000 632 141

6. East Hartford; CTD 046 232 633

7. Fairfax; VAD 093 952 935

8. Greensboro; NC1 234 567 890

9. Long Island; NYD 002 904 076

10. Nashville; TND 000 792 663

11. New Haven; CTD 064 827 942

12. Newark; NJD 065 808 875

13. Pittsburg; PAD 072 167 125

14. Providence; RID 059 741 520

15. Pt. Everglades East; FLD 000 608 182

16. Pt. Everglades South; FLD 984 173 534

17. Sewaren; NJD 002 195 220

18. South Portland; MED 086 875 382

19. Spartanburg; SCD 030 090 831

20. Springfield; VAD 000 607 986

89. Motiva Enterprises LLC, Port Arthur, TX

1. Port Arthur Refinery; TXD 008 097 529

2. Port Arthur Terminal; TXD 008 097 529

3. Port Neches Terminal; TXD 980 626 022

90. Motiva Enterprises LLC, Norco, LA

1. Norco Refinery; LAD 008 186 579

91. Murphy Oil USA, Inc., El Dorado, AR

1. Meraux Terminal (Louisiana)

2. Anniston Terminal (Alabama)

3. Sheffield Terminal (Alabama)

4. Tampa Terminal (Florida)

5. St. Marks Terminal (Florida)

6. Freeport Terminal (Florida)

7. Duluth Terminal (Esko Minnesota)

8. Meraux Refinery; LAD 008 058 471

9. Superior Refinery; WID 006 194 336

92. National Cooperative Refinery Association, McPherson, Kansas

1. Holtzinger Station, S35/Ti 4S/R21W, Trego County, KS; No EPA ID No.

2. Refinery Division; KSD 007 145 956

93. Navajo Refining Company, Artesia, NM

1. Artesia Refinery; NMD 048 918 817

2. El Paso Eastside/PD Terminal; TXR 000 010 900

3. Crouch Station; No EPA ID No.

4. Brushy Draw Station; No EPA ID No.

5. Abo Station; No EPA ID No.

6. Barnsdale Station; No EPA ID No.

7. Orla Station; No EPA ID No.

8. Moore Station; No EPA ID No.

9. Chalk Station; No EPA ID no.

10. Forsan Station; No EPA ID No.

11. Weems Station; TXD 095 214 497

12. Russell Station; TXT 490 010 923

94. Olympic Pipe Line Company, Renton, WA

1. Allen Station; WAD 000 641 746

2. Bayview; WAH 000 008 441

3. Portland; ORD 097 008 692

4. Renton; WAD 000 641 753

5. Sea-Tac; WAD 000 641 704

6. Seattle; WAD 000 641 738

7. Vancouver; WAD 000 641 761

95. Pennzoil-Quaker State Company—Shreveport Refinery, Shreveport, LA

1. Shreveport Refinery; LAD 008 052 334

96. Petroleum Fuel and Terminal Company, Granite City, IL

1. Petroleum Fuel and Terminal Company, Baltimore, MD; Air Permit No., Facility ID No. 24-01923

2. Petroleum Fuel and Terminal Company, Memphis, TN; Air Permit No., Source No. 0376

3. Petroleum Fuel and Terminal Company, Rensselaer, NY; DECID 438 140 0003

97. Phillips Pipe Line Company, Bartlesville, OK

1. Borger Crude Terminal; TXD 000 742 585

2. Kansas City Terminal; KSD 000 687 665

3. Amarillo Terminal; TXD 000 803 585

4. Albuquerque Terminal; NMD 000 792 986

5. Wichita Terminal; KSD 070 904 719

6. Paola Terminal; KSD 092 850 437

7. E. St. Louis Terminal; ILD 053 981 601

8. Pasadena Terminal; TXD 074 157 637

9. Buckeye Station; Airs No. 35-025-0253

10. Whiteface Station; TNRCC Acct. No. CM-01223-A

11. University Station; TNRCC Acct. No. AB-0309-T

12. Palmer Station; TXD 000 742 601

98. Phillips Puerto Rico Core, Guayama, Puerto Rico

1. Phillips Puerto Rico CORE; No EPA ID No.

99. Phillips Petroleum Company, Bartlesville, OK

1. Woods Cross Refinery; UTD 009 090 580

2. Borger Refinery; TXD 980 626 774

3. Sweeny Refinery; TXD 048 210 645

100. The Premcor Refining Group, Inc., Hartford Refinery, Hartford, IL

1. Hartford Refinery; ILD 004 441 889 023

101. The Premcor Refining Group, Lima Refinery, Lima, OH

1. Lima Refinery; 030 202 0012

102. Plains Marketing, L.P., Cushing, OK

1. Cushing, Lincoln County, KS; No EPA ID NO.

2. Devils Garden, Broward, FL; No EPA ID No.

3. Floyd, Midland, TX; No EPA ID No.

4. Glasscock, Martin, TX; No EPA ID No.

5. Goodrich, Polk TX; No EPA ID No.

6. Grand Chenier, Cameron, LA; No EPA ID No.

7. Greensburg, St. Helana, LA; No EPA ID No.

8. Greenwood, Midland, TX; No EPA ID No.

9. Griffin, Gregg, TX; No EPA ID No.

10. Hainsville Sour, Wood, TX; No EPA ID No.

11. Hearne, Robertson, TX; No EPA ID No.

12. Kangerga, Rusk, TX; No EPA ID No.

13. Ken Cox, Martin, TX; No EPA ID No.

14. Lagrange, Fayette, TX; No EPA ID No.

15. Larose, La Fourche, LA; No EPA ID No.

16. Lockhart Crossing, Livingston, LA; No EPA ID No.

17. Mabee, Martin, TX; No EPA ID No.

18. Monterey, Concordia, LA; No EPA ID No.

19. Munro (Foreign C), Gregg, TX; No EPA ID No.

20. Patterson, Reagan, TX; No EPA ID No.

21. Porterville, Loving, TX; No EPA ID No.

22. Powell, Glasscock, TX; No EPA ID No.

23. Roseland, Concordia, LA; No EPA ID No.

24. Sabine Pass, Jefferson, TX; No EPA ID No.

25. Spraberry, Midland, TX; No EPA ID No.

26. St. Gabriel, Iberville, LA; No EPA ID No.

27. Stoneburg, Montague, TX; No EPA ID No.

28. Sulphur Draw, Martin, TX; No EPA ID No.

29. Abbeville, Vermilion, LA; No EPA ID No.

30. Arden Jct., Irion, TX; No EPA ID No.

31. Ball, Reagan, TX; No EPA ID No.

32. Barker, Gregg, TX; No EPA ID No.

33. Battleview, Burke, North Dakota; No EPA ID No.

34. Bee Brake, Concordia, LA; No EPA ID No.

35. Bradford, Midland, TX; No EPA ID No.

36. Brown, Martin, TX; No EPA ID No.

37. Charenton, St. Mary, LA; No EPA ID No.

38. Childress, Childress, TX; No EPA ID No.

39. Coates Ranch, Reagan, TX; No EPA ID No.

40. Conley, Hardeman, TX; No EPA ID No.

41. Cooks Point, Burleson, TX; No EPA ID No.

42. Crain Ranch, Cameron, OK; No EPA ID No.

43. Cushing, Lincoln, OK; No EPA ID No.

44. Tippett, Upton, TX; No EPA ID No.

45. Tuscola, Taylor, TX; No EPA ID No.

46. Uption (Shell), Upton, TX; No EPA ID No.

47. Wildsville, Concordia, LA; No EPA ID No.

48. Wink, Winkler, TX; No EPA ID No.

103. The Premcor Refining Group, Inc., Port Arthur Refinery, Port Arthur, TX

1. Port Arthur Refinery; 482 450 0004

2. Lucas Station; 000008954554

104. Paramount Petroleum, Paramount, CA

1. Paramount Petroleum Refinery; PPC ENV. File No. 2000-700.100

105. Environmental Resources Management, Woodbury, NY

1. RAD Energy, Oceanside, NY; 11572RDNRG7HAMP

106. Shell Chemical Company, Houston, TX

1. Shell Chemical Company—Deer Park Chemical Plant; 77536SHLLLHIGHW

2. Shell Chemical Company—Geismar Chemical Plant; LA0 039 131 83

3. Shell Chemical Company—Norco Chemical Plant; LAR 000 011 635

107. Shell Deer Park Refining Company, Deer Park, TX

1. Shell Deer Park Refining Company; TXD 067 285 973-1

108. Sinclair Oil Corporation, Salt Lake City, UT

1. Sinclair Tulsa Refinery; OKD 990 750 960

109. ST Services, Dallas, TX

1. Columbus, GA; GAD 991 298 860

2. Linden, NJ; NJD 980 647 242

3. Jacksonville, FL; FLD 121 967 152

4. Moundville, AL; ALD 000 772 251

5. Stockton, CA; CAT 000 617 514

6. Texas City, TX; TXD 096 036 561

110. SuNoco, Inc., Marcus Hook, PA

1. SuNoco, Inc.—Philadelphia Refinery, Philadelphia, PA; No EPA ID No.

2. SuNoco, Inc.—Marcus Hook Refinery, Marcus Hook, PA; No EPA ID No.

3. SuNoco, Inc.—Northumberland Terminal, Northumberland, PA; No EPA ID No.

4. Sun Pipe Line Co., St. Clair, MI; No EPA ID No.

5. Puerto Rico Sun Oil Company, Yabucoa, PR, No EPA ID No.

6. SoNoco, Inc. Kingston Terminal, Edwardsville, PA; No EPA ID No.

7. Sun Pipe Line Co.—Montello Pump Station, Sinking Springs, PA; No EPA ID No.

8. Mid Continent Pipe Line—Bristow Station, Bristow, OK, No EPA ID No.

9. Sun Pipe Line Co.—Breckenridge Station, Snyder, TX; No EPA ID No.

10. Sun Pipe Line Co.—Suggs Station, Snyder, TX; No EPA ID No.

11. Sun Pipe Line Co—Benjamin Station, Abilene, TX; No EPA ID No.

12. Sun Pipe Line Co.—Hearn Station, Abilene, TX; No EPA ID No.

13. Sun Pipe Line Co—Carlsbad Station, Abilene, TX; No EPA ID No.

14. SuNoco, Inc.—Toledo Refinery, Oregon, OH; No EPA ID No.

15. Mid Continent Pipe Line—Little Farm Station, Cushing, OH; No EPA ID No.

16. Sun Pipe Line Co.—Southbend Station, Snyder, TX; No EPA ID No.

17. Sun Pipe Line Co.—Nederland Marine Terminal, Nederland, TX; No EPA ID No.

18. Sun Pipe Line Co.—Hawley Station, Abilene, TX; No EPA ID No.

19. Sun Pipe Line Co.—Tye Station; Abilene, TX; No EPA ID No.

20. Sun Pipe Line Co.—Monroe Station, Abilene, TX; No EPA ID No.

21. Sunoco, Inc.—Tulsa Refinery, Tulsa, OK; No EPA ID No.

111. Tesoro Alaska Company, Kenai, AK

1. Kenai Refinery; 9323-11008

2. Anchorage Terminal No. 1; 9521-AA003

3. Kenai Pipeline Company; AKD 035 419 795

4. Nikiski Terminal; AKD 983 075 094

5. Anchorage Terminal No. 2; 9521-AA007

112. Tesoro Hawaii Corporation, Honolulu, HI

1. Tesoro Hawaii Corporation Refinery; HID 056 786 395

2. Tersor Hawaii Corporation Maui Terminal; HIO 000 146 365

113. Tesoro Northwest Company, Anacortes, WA

1. Tesoro Northwest Refinery, Anacortes, WA; No EPA ID No.

114. Tosco Corporation, Tempe, Arizona

1. Avon Refinery; CAD 000 072 751

2. Bayway Refinery; NJD 986 645 984

3. Spokane Terminal; WAD 000 641 549

4. Coalinga Pump Station; CAD 980 585 855

5. Torrance Tank Farm; CAT 000 625 301

6. Ferndale Refinery; WAD 009 250 366

7. Trainer Refinery; PAR 000 015 768

8. Colton East Terminal; CAD 000 628 917

9. Honolulu; HID 000 633 081

10. Manassas Terminal; VAR 000 015 883

11. Phoenix Terminal; AZD 070 259 767

12. Portland Terminal; ORD 087 458 196

13. Renton Terminal; WAS 000 641 530

14. Riverhead Terminal; NYD 072 367 980

15. Sacramento Terminal; CAD 009 590 118

115. United Refining Company, Warren, PA

1. United Refining Company Warren, PA Refinery; PAD 002 105 179

116. Unocal Beaumont Terminal, Unocal Corporation, Nederland, TX

1. Beaumont Terminal, Nederland, TX; TNRCC Acct. No. JE-0111-H

117. Valero Refining Company, San Antonio, TX

1. Corpus Christi Refinery; TXD 074 604 166

2. Texas City Refinery; TXD 000 792 937

3. Houston Refinery; TXD 053 624 193

4. Krotz Springs Refinery; LAD 081 407 850

5. Paulsboro Refinery; NJD 002 342 469 301

6. Benicia Refinery; CAD 063 001 770

118. Williams Alaska Petroleum, Inc., Tulsa, OK

1. Anchorage Terminal; AKD 000 641 852

2. North Pole Refinery; AKD 000 850 701

119. Williams Pipe Line Company, Tulsa, OK

1. Fort Smith; AR0 000 971 663

2. Des Moines; IAD 075 834 713

3. Dubuque; IAD 089 981 245

4. Fort Dodge; IAD 000 690 255

5. Iowa City; IAT 200 010 007

6. Mason City; IAD 000 690 289

7. Milford; IAD 000 690 263

8. Sioux City; IAD 000 690 271

9. Waterloo; IAD 000 690 248

10. Amboy; ILD 000 716 902

11. Chicago; ILD 000 673 053

12. Heyworth; ILD 984 811 083

13. Menard County; ILD 152 533 790

14. El Dorado; KST 210 010 021

15. Filter Press; KST 210 010 153

16. Independence; KSO 001 962 911

17. Kansas City; KSD 030 633 911

18. Olathe; KST 210 010 666

19. St. Joseph; KST 210 010 005

20. Topeka; KST 210 010 039

21. Wichita; KSO 002 207 157

22. Alexandria; MND 000 824 094

23. Mankato; MND 000 685 784

24. Marshall; MND 076 502 335

25. Minneapolis; MND 000 685 768

26. Rochester; MND 000 685 776

27. Rosemount; MNO 001 440 445

28. Carthage; NOD 084 096 130

29. Columbia; NOD 071 958 631

30. Mt. Vernon, MO; 7660044

31. Palmyra, MOD 000 767 103

32. Springfield; MOD 000 147 8619

33. Grand Forks, NDD 986 271 385

34. West Fargo; NDD 000 690 669

35. Doniphan; NED 000 690 305

36. Lincoln; NED 000 690 313

37. Nebraska City; NED 000 690 297

38. Omaha; NED 040 917 569

39. Allen; OKO 001 148 188

40. Barnsdall; 7496392

41. Drumright; OKO 002 315 141

42. Enid; OKD 987 083 102

43. Glen Pool; OKD 000 829 515

44. High Street; OKD 987 066 917

45. Ponco City; OKO 001 579 721

46. Reno; OKD 981 586 720

47. Sooner Road; OKD 000 763 391

48. Tulsa; OKD 000 821 330

49. Sioux Falls; SDD 000 823 559

50. Watertown; SDD 000 694 596

51. Bateman; WID 152 525 556

52. Wausau; WID 000 711 390

120. Williams Refining, L.L.C., Tulsa, OK

1. Williams Refining, LLC; TND 007 026 958

2. Williams Riverside Terminal; TND 000 615 641

3. Williams West Memphis Terminal; ARD 083 261 22

4. Williams Collierville Terminal; MSTMP0002012 (temporary number, expired 1998)

121. Williams Energy Ventures, Inc., Tulsa, OK

1. Mobile; ALD 000 826 933

2. Montgomery; ALD 000 826 941

3. Phoenix (Caljet); AZO 001 275 67

4. Phoenix (Seaport); AZD 983 473 174

5. Jacksonville; FLD 055 346 134

6. Albany; GAD 000 616 557

7. Doraville; GAD 000 649 137

8. Augusta; KSD 985 006 154

9. Marrero; LAO 002 205 599

10. St. Charles; MOD 000 767 11

11. Meridian; MSD 000 826 883

12. Greensboro (Sofac); NCD 000 616 581

13. Charlotte (Sofac); NCD 000 616 599

14. Selma; NCD 000 616 607

15. Charlotte (Amoco); NCD 000 826 909

16. Greensboro (Amoco); NCD 071 562 656

17. Aurora; OHD 000 723 957

18. North Augusta (Sofac); SCD 000 616 615

19. Spartanburg; SCD 086 364 841

20. North Augusta (Amoco); SCD 987 579 364

21. Nashville (Sofac); TND 000 616 649

22. Chattanooga; TND 000 825 182

23. Nashville (Amoco); TND 000 826 859

24. Nashville (Mar-Ash); TND 000 829 143

25. Knoxville; TND 074 904 053

26. Dallas; TXD 000 741 900

27. Galena Park; TXD 002 524 874

28. Corpus Christi; TXD 091 698 951

29. Montvale; VAD 000 776 203

30. Richmond; VAD 058 900 036

122. Wynnewood Refining Company, Wynnewood, OK

1. Wynnewood Refining Company; OKD 000 396 549

[FR Doc. 00-26749 Filed 10-17-00; 8:45 am]

BILLING CODE 6560-50-P